DEPARTMENT OF TRANSPORTATION

Federal Aviation Administration

14 CFR Part 71

[Docket No. FAA-2009-0705; Airspace Docket No. 09-ASO-25]

Establishment of Class E Airspace; Hertford, NC

AGENCY: Federal Aviation Administration (FAA), DOT.

ACTION: Direct final rule; confirmation of effective date.

SUMMARY: This action confirms the effective date of a direct final rule published in the Federal Register September 14, 2009 that establishes Class E Airspace at Harvey Point Defense Testing Activity, Hertford, NC.

DATES: Effective Date: 0901 UTC, January 27, 2010.

FOR FURTHER INFORMATION CONTACT: Melinda Giddens, Operations Support Group, Eastern Service Center, Federal Aviation Administration, P.O. Box 20636, Atlanta, Georgia 30320; telephone (404) 305-5610.

SUPPLEMENTARY INFORMATION:

Confirmation of Effective Date

The FAA published this direct final rule with a request for comments in the Federal Register on September 14, 2009 (74 FR 46892), Docket No. FAA-2009-0705; Airspace Docket No. 09-ASO-25. The FAA uses the direct final rulemaking procedure for a non-controversial rule where the FAA believes that there will be no adverse public comment. This direct final rule advised the public that no adverse comments were anticipated, and that unless a written adverse comment, or a written notice of intent to submit such an adverse comment, were received within the comment period, the regulation would become effective on December 17, 2009. No adverse comments were received, and thus this notice confirms that effective date.

Issued in College Park, Georgia, on January 14, 2010.
Myron A. Jenkins,
Acting Manager, Operations Support Group, Eastern Service Center, Air Traffic Organization.

[FR Doc. 2010-1384 Filed 1-26-10; 8:45 am]

BILLING CODE 4910-13-P